DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending March 31, 2006.

Last name | First name | Middle name/initials
GARDINER | LINDA
HAUSER | BERNHARD | D.
NAYLOR | BRENT | G.
NAYLOR | K. | GAYLE
FURBERT | HELEN | MARIE
CALACE | BARBARA | CLARA
BOULLE | NATHALIE | A.
KATARIA | TARUN
COMBS | MARIELUISE | HORBER
DICKERSON | WILLIAM | J.
DICKERSON | JANISE
ESER | FLORIDA | O.
BALDWIN | WONG | KWOK LEARN
NICHOLIS | HUMPHREY |
PETTERSSON | JAN | B.
EICHLER | KRISTA
WITT | ALEXANDRA
KADOORIE | NATALIE | LOUISE
ESCOUFLAIRE | ANNETTE
GILLIAM | TERENCE | VANCE
PARK | KANG | OP
WATKINS | FE | ALAAN
BERGERIOUX | ANTHONY | G.
SAM | CHOON | HAN
MCKECHNIE | MICHAEL | M.
HERMANSON | MINA | KRISTINE
GREENBERG | MARYANA
HAMILTON | JANET
SILVER | ROBERT | SPENCER
VERWER | DANIEL | FEDERICO
BIRCHFIELD | STEVEN | ELLIS
METWALLY | MOHAMED
ELSAS | OSKAR | LEO
FERNANDEZ | MANUEL | URIA
DENG | SUK-YEE | F.
KIM | ANNE
MCDONALD | ELEANOR | ANN
JEUN | WOOYONG | JUDY
NILSSON | KIRSTEN
COUILLARD | FELICIA | DAWN
PARK | YONG KON | RAPHAEL
MASSETT | ELLEN
STRUBEN | RICHARD | L.
HAINAULT | TALBOT
RICHWELL | RHETT | TERRENCE
QUINTANA | JYTTE
NOWAK | ELAINE | URSULA
BLANK | WALTER | GERHARD
BSEISU | AMJAD
FISHER | JOHN
WOUTERS | JOHAN
LI | KENNETH | BENJAMIN
CHOW | SAVIO | S.
GARDINER | ELIZABETH
| SUSANNE
RUDGE | PENELOPE | JANE
UTZSCHNEIDER | SUSANNE
KIM | SUNG | SOO
LORENCEAU | CHARLES | ANTOINE
WETTERLIN | ALLISON | LOUISE
PRESTGARD | LOUANN
SUMMITT | HEINRICH | JOSEF
SCHOENFELD | JOSEPHINE | A.
FOSTER | STEPHEN | M.
SCHOENFELD | ARTHUR | D.
PAIZ DE ESCOBAR | CLAUDIA | LUCIA
WU | CINDY | S.
CHASE | ROBERT | ROBERTS
RICHARDSON | ALMA | CATHERINE
CLEVELAND | STEVEN | WILLIAM
PELHAM | CLARE | JOHANNA
BAMFORD | JOSEPH
HEIKENFELD | MARK | IAN
MARCIL | ADRIANA | GERALDINE
LUNDSDAL | OLOF | NICKOLAUS
GOODER | RICHARD | DENNIS
LOPEZ III | JOSE | JOAQUIN
PHILLIPS | ANDREW | CORENTON
PRZYBYLSKI | AE | MARTIN
DRAKE | SEAN | PATRICK
PRICE | MALIYA | ANN
LABRIE | PETER | CHARDON
BOND | PETER | J.
DORRELL | DAVID | R.
DORRELL | ANGELA | M.
STRYKER | DEANNA
VASWANI | KIRAN | HANEET
SVENSSON | INGRID
AUGESTAD | LIV | BERIT HIRSCH
COHEN | DAN | ALAN
ROLLO | TERRENCE | RD
KIMMERLE | HORST
OBERAI | ANJUL
THIBAUT | DIANE | M.
PETERS-BAXSTEVENS | KAREN | IDA
HILL | TRISTRAM | W.
HILL | SUSAN | E.
BEER | SUSAN | GENE
HARRIS | JUDITH | M.
BARRUS | JOHN | P.
KIM | SEONGMOON

Dated: April 17, 2006.
Angie Kaminski,
Examinations Operations, Philadelphia Compliance Services.

[FR Doc. E6-6478 Filed 4-28-06; 8:45 am]

BILLING CODE 4830-01-P